DEPARTMENT OF COMMERCE

National Oceanic and Atmospheric Administration

[RTID 0648-XC943]

Fisheries Off West Coast States; Pacific Coast Groundfish Fishery; Notice for Exempted Fishing Permit Application

AGENCY: National Marine Fisheries Service (NMFS), National Oceanic and Atmospheric Administration (NOAA), Commerce.

ACTION: Notice; request for comments.

SUMMARY: The Regional Administrator, West Coast Region, NMFS, announces receipt of an exempted fishing permit (EFP) application, and is considering issuance of an EFP for a third party Electronic Monitoring (EM) provider who would provide EM services for vessels participating in the existing EM EFP fisheries, and also to the vessels participating in this EFP. NMFS requests public comment on the application.

DATES: Comments must be received by May 11, 2023.

ADDRESSES: You may submit comments on this document, identified by NOAA-NMFS-2023-0063 by the following method:

• Electronic Submissions: Submit all public comments via the Federal e-Rulemaking Portal. Go to www.regulations.gov and enter NOAA-NMFS-2023-0063 in the Search box. Click on the “Comment” icon, complete the required fields, and enter or attach your comments. The EFP application will be available under Supporting and Related Materials through the same link.

• Instructions: Comments must be submitted by the above method to ensure that the comments are received, documented, and considered by NMFS. Comments sent by any other method or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Matt Dunlap, West Coast Region, NMFS, (206) 316-7944, matthew.dunlap@noaa.gov.

SUPPLEMENTARY INFORMATION: This action is authorized by the Pacific Coast Groundfish Fishery Management Plan and the regulations implementing the Magnuson-Stevens Fishery Conservation and Management Act at 50 CFR 600.745, which state that exempted fishing permits (EFP) may be used to authorize fishing activities that would otherwise be prohibited.

On June 28, 2019 (84 FR 31146), at the recommendation of the Pacific Fishery Management Council (Council), NMFS published a final rule that authorized the use of EM in place of human observers to meet requirements for 100-percent at-sea monitoring for catcher vessels in the groundfish trawl catch share fishery (Trawl Rationalization Program). EM video systems are used to record catch and discards by the vessel crew while at sea. Vessel operators are responsible for recording catch and discards in a logbook, which is then used to debit individual fishing quota (IFQ) accounts and cooperative allocations. The Council recommended, and NMFS implemented, a delay to the start of the regulatory program (86 FR 5525, October 6, 2021) until January 2024.

FlyWire, the EFP applicant, seeks to test the third party EM service provider model during the delay, as described in the EM program manual and associated guidelines and under 50 CFR 660.603 and 660.604. The West Coast EM regulatory program established requirements for vessel owners and operators, standards for EM systems, and protocols for handling catch while using EM systems in the Catch Share Program. The EM program also established requirements for third party EM Service Providers, which are companies tasked with providing EM services to the fleet. EM service providers are responsible for the installation and technical support of EM systems, and the collection and review of EM video data. EM vessels submit logbooks to report catch and discard information to NOAA Fisheries, and video data is used to audit logbooks to ensure information is accurately reported. If approved, the applicant would test alternative catch handling approaches for bottom trawl designed to reduce the time and labor burden for vessel crew, in addition to testing the third party model in the maximized retention Pacific whiting fleet. The applicant anticipates providing EM services to approximately five vessels that would participate in the EFP. While the applicant seeks an exemption from the requirement for vessels to carry an at-sea observer, all catch and effort would be covered by existing Individual Fishing Quota, Coop allocations, and associated National Environmental Policy Act and Endangered Species Act analyses. Observers will be required for initial “shakedown” cruises, but an observer exemption will be granted for this EFP if the equipment and vessel monitoring plans are consistent with the existing EM EFP guidelines.

If approved, NMFS would issue the permits for the EFP project to the applicant and vessel owners or designated representatives as the “EFP holder.” NMFS intends to use an adaptive management approach in which NMFS may revise requirements and protocols to improve the program without issuing another Federal Register notice, provided that the modifications fall within the scope of the original EFP. NMFS would also accept additional applications to participate in the same, or similar, exempted fishing activity.

The Regional Administrator has made a preliminary determination that the applications described above contain all of the required information and constitute an activity appropriate for further consideration. After publication of this document in the Federal Register, and review and consideration of any public comments received, NMFS may approve and issue permits for the EFP project. NMFS may approve the application in its entirety or may make any alterations needed to achieve the goals of the EFP.

Authority: 16 U.S.C. 1801 et seq.; 50 CFR 600.745. This action is authorized by the Pacific Coast Groundfish Fishery Management Plan and the regulations implementing the Magnuson-Stevens Fishery Conservation and Management Act at 50 CFR 600.745, which state that exempted fishing permits (EFP) may be used to authorize fishing activities that would otherwise be prohibited.

Dated: April 20, 2023.
Kelly Denit,
Director, Office of Sustainable Fisheries, National Marine Fisheries Service.

[FR Doc. 2023-08731 Filed 4-25-23; 8:45 am]

BILLING CODE 3510-22-P